DEPARTMENT OF COMMERCE

Economic Development Administration

Agency Information Collection Activities; Submission to the Office of Management and Budget (OMB) for Review and Approval; Comment Request; Non-Infrastructure Metrics

AGENCY: Economic Development Administration, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before April 17, 2023.

ADDRESSES: Interested persons are invited to submit written comments via email to Aminata Kamara, Program Analyst, U.S. Department of Commerce, at akamara2@eda.gov or PRAcomments@doc.gov. Do not submit Confidential Business Information or otherwise sensitive or protected information.

FOR FURTHER INFORMATION CONTACT: Requests for additional information or specific questions related to collection activities should be directed to Aminata Kamara, Program Analyst, U.S. Department of Commerce, at akamara2@eda.gov.

SUPPLEMENTARY INFORMATION:

I. Abstract

The Economic Development Administration (EDA) leads the Federal economic development agenda by promoting innovation and competitiveness, preparing American regions for growth and success in the worldwide economy. Guided by the basic principle that sustainable economic development should be locally driven, EDA works directly with communities and regions to help them build the capacity for economic development based on local business conditions and needs. The Public Works and Economic Development Act of 1965 (PWEDA) (42 U.S.C. 3121 et seq.) is EDA's establishing authority and is the primary legal authority under which EDA awards financial assistance. Under PWEDA, EDA provides financial assistance to both rural and urban distressed communities by fostering entrepreneurship, innovation, and productivity through investments in infrastructure development, capacity building, and business development to attract private capital investments and new and better-quality jobs to regions experiencing economic distress. Further information on EDA programs and financial assistance opportunities can be found at www.eda.gov.

EDA's expansive portfolio of programs, the changing economy, and advances in the field of program evaluation require comprehensive and relevant data collection to increase EDA's transparency, accountability, and inform the effectiveness of its investments. Thus, EDA proposes extending forms ED-915, ED-916, ED-917, and ED-918, which are currently used to collect performance information from EDA grantees. These data collection instruments cover EDA's infrastructure and non-infrastructure program portfolios thereby helping EDA tell a better, more wholistic story of its investments and impact in the communities and regions it serves.

The purpose of this notice is to seek comments from the public and other Federal agencies on a request for an extension without changes on the ED-916, ED-917 and ED-918 non-infrastructure metrics for recipients of awards under EDA's non-infrastructure portfolio of programs and the ED-915 construction metrics for recipients under EDA's construction portfolio of programs. EDA will require award recipients to submit this data at predetermined intervals (ED-916: semiannually throughout the period of performance for their award; ED-917/18: annually for 5 years; ED-915 at 3-, 6-, 9-year intervals after the award) to determine the activities grantees were able to undertake because of the EDA award and the outcomes from those activities attributable to the EDA grants for both grantee organizations and the clients they serve.

II. Method of Collection

Data will be collected electronically.

III. Data

OMB Control Number: 0610-0098.

Form Number(s): ED-915, ED-916, ED-917, ED-918.

Type of Review: Regular submission (extension of a currently approved information collection).

Affected Public: EDA-funded grantees: State, local and tribal governments; community organizations; non-profit organizations; Indian Tribes; Institution of Higher Education or a consortium of institutions of higher education.

Estimated Number of Respondents:

Data collection form | Estimated number of respondents | Estimated time per response | Estimated total burden hours
ED-915 (3-6-9 years) | 742 | 1 hour | 742
ED-916 (semi-annual) | 1,067 | 1.5 (× 2) | 3,201
ED-917 (annual) | 416 | 8 | 3,328
ED-918 (annual) | 1,285 | 6 | 7,710
Total | 3,510 |  | 14,981

Estimated Total Annual Cost to Public: $XXX.

Respondent's Obligation: Mandatory for all non-infrastructure award recipients.

Legal Authority: The Public Works and Economic Development Act of 1965 (42 U.S.C. 3121 et seq.).

IV. Request for Comments

EDA is soliciting public comments to permit the Department/Bureau to: (a) Evaluate whether the proposed information collection is necessary for the proper functions of the Department, including whether the information will have practical utility; (b) Evaluate the accuracy of the estimate of the time and cost burden for this proposed collection, including the validity of the methodology and assumptions used; (c) Evaluate ways to enhance the quality, utility, and clarity of the information to be collected; and (d) Minimize the reporting burden on those who are to respond, including the use of automated collection techniques or other forms of information technology.

Comments that are submitted in response to this notice are a matter of public record. EDA will include or summarize each comment in its request to OMB to approve this ICR. Before including an address, phone number, email address, or other personal identifying information in a comment, please be aware that the entire comment—including personal identifying information— may be made publicly available at any time. EDA will attempt to honor requests to it hold personal identifying information from public review, however EDA cannot guarantee that it will be able to do so.

Sheleen Dumas,
Department PRA Clearance Officer, Office of the Chief Information Officer, Commerce Department.

[FR Doc. 2023-03292 Filed 2-15-23; 8:45 am]

BILLING CODE 3510-34-P